DEPARTMENT OF TRANSPORTATION

Federal Aviation Administration

14 CFR Part 39

[Docket No. FAA-2021-1073; Project Identifier AD-2021-01252-T; Amendment 39-22090; AD 2022-13-04]

RIN 2120-AA64

Airworthiness Directives; The Boeing Company Airplanes

AGENCY: Federal Aviation Administration (FAA), DOT.

ACTION: Final rule.

SUMMARY: The FAA is superseding Airworthiness Directive (AD) 2017-24-10, which applied to certain The Boeing Company Model 757-200, -200PF, and -300 series airplanes. AD 2017-24-10 required repetitive inspections for any cracking of a certain fuselage frame inner chord; identification of the material of a certain fuselage frame inner chord for certain airplanes; and applicable corrective actions. This AD was prompted by reports of cracking found at a certain fuselage frame inner chord. This AD retains the requirements of AD 2017-24-10, adds airplanes, and requires new inspection types in certain areas, an expanded inspection area, additional inspections, and applicable corrective actions. The FAA is issuing this AD to address the unsafe condition on these products.

DATES: This AD is effective August 12, 2022.

The Director of the Federal Register approved the incorporation by reference of a certain publication listed in this AD as of August 12, 2022.

The Director of the Federal Register approved the incorporation by reference of a certain other publication listed in this AD as of January 9, 2018 (82 FR 57343, December 5, 2017).

ADDRESSES: For service information identified in this final rule, contact Boeing Commercial Airplanes, Attention: Contractual & Data Services (C&DS), 2600 Westminster Blvd., MC 110-SK57, Seal Beach, CA 90740-5600; telephone 562-797-1717; internet https://www.myboeingfleet.com. You may view this service information at the FAA, Airworthiness Products Section, Operational Safety Branch, 2200 South 216th St., Des Moines, WA. For information on the availability of this material at the FAA, call 206-231-3195. It is also available at https://www.regulations.gov by searching for and locating Docket No. FAA-2021-1073.

Examining the AD Docket

You may examine the AD docket at https://www.regulations.gov by searching for and locating Docket No. FAA-2021-1073; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Peter Jarzomb, Aerospace Engineer, Airframe Section, FAA, Los Angeles ACO Branch, 3960 Paramount Boulevard, Lakewood, CA 90712-4137; phone: 562-627-5234; email: peter.jarzomb@faa.gov.

SUPPLEMENTARY INFORMATION:

Background

The FAA issued a notice of proposed rulemaking (NPRM) to amend 14 CFR part 39 to supersede AD 2017-24-10, Amendment 39-19114 (82 FR 57343, December 5, 2017) (AD 2017-24-10). AD 2017-24-10 applied to certain The Boeing Company Model 757-200, -200PF, and -300 series airplanes. The NPRM published in the Federal Register on January 21, 2022 (87 FR 3246). The NPRM was prompted by reports of cracking found at the fuselage station (STA) 1380 frame inner chord and by reports of new crack findings outside of the AD 2017-24-10 inspection area, which the existing inspections will not detect. In the NPRM, the FAA proposed to continue to require repetitive inspections for any cracking of a certain fuselage frame inner chord; identification of the material of a certain fuselage frame inner chord for certain airplanes; and applicable corrective actions. The NPRM also proposed to add airplanes and require new inspection types in certain areas, an expanded inspection area, additional inspections, and applicable corrective actions. The FAA is issuing this AD to detect and correct such cracks, which could result in rapid decompression of the airplane and the inability to sustain loads required for continued safe flight and landing.

Discussion of Final Airworthiness Directive

Comments

The FAA received comments from seven commenters. The Airline Pilots Association, International (ALPA), United Airlines, and two additional commenters supported the NPRM without change.

The FAA received additional comments from Aviation Partners Boeing (APB), Delta Airlines (DAL), and FedEx Express (FedEx). The following presents the comments received on the NPRM and the FAA's response to each comment.

Effect of Winglets on Accomplishment of the Proposed Actions

APB stated that the installation of winglets per Supplemental Type Certificate (STC) ST01518SE does not affect compliance with the mandated actions in the proposed rule.

The FAA agrees with the commenter. A review of the STC holders determined that airplanes with their winglets installed do not affect compliance with the proposed actions. Paragraph (c) of the proposed AD has been redesignated as paragraph (c)(1) of this AD, and paragraph (c)(2) has been added to this AD to state that installation of STC ST01518SE does not affect the ability to accomplish the actions required by this AD. Therefore, for airplanes on which STC ST01518SE is installed, a “change in product” alternative method of compliance (AMOC) approval request is not necessary to comply with the requirements of 14 CFR 39.17.

Request for an Exception for a Certain STC

FedEx noted that its fleet of Boeing Model 757-200 series airplanes was converted to a configuration similar to the Boeing Model 757-200SF per VT Mobile Aerospace Engineering (VT MAE) STC ST03562AT, and those airplanes are no longer configured as passenger airplanes. Per the VT MAE STC ST03562AT, certain areas of the airplane are not altered, but are subject to Boeing Model 757-200SF loads. The FAA infers that the certain areas the commenter referred to is the fuselage STA 1380 frame inner chord. As a result, FedEx requested the VT MAE STC ST03562AT be included as a new exception in paragraph (k) of this AD to the requirements of paragraph (j) of this AD, similar to Model 757-200 Special Freighter STC ST00916WI-D, as specified in Boeing Alert Requirements Bulletin 757-53A0118 RB, dated October 22, 2021.

The FAA agrees with the commenter for the reasons provided. Paragraph (k)(3) has been added to this AD to state that where Boeing Alert Requirements Bulletin 757-53A0118 RB, dated October 22, 2021, allows an approved web repair accomplished in accordance with 757-200 SRM 53-00-07 Repair 4 for “757-200 Special Freighter STC ST00916WI-D only,” this AD also approves those repairs for VT MAE STC ST03562AT.

Request To Change Compliance Time

FedEx requested that paragraphs (g), (h), and (i) of the proposed AD (retained from AD 2017-24-10) be retained only until the effective date of this final rule, at which point the new requirements of this AD, as specified in paragraphs (j), (k), and (l) of this AD would be the only requirements of this AD. FedEx pointed to the unsafe condition statement in paragraph (e) of the proposed AD as justification, emphasizing the phrase “. . . new crack findings outside of the AD 2017-24-10 inspection area, which the existing inspections will not detect.” FedEx noted that the exception specified in paragraph (k)(1) of this AD would remain unchanged.

The FAA does not agree with the commenter. This AD is issued to address new cracking that has been found outside of the inspection area of AD 2017-24-10, and that AD's inspections will not detect the new cracking. Operators that have performed the initial eddy current inspections required by AD 2017-24-10 need to continue to inspect affected airplanes at the applicable repetitive interval in order to maintain the damage tolerance capability of the affected structure. If the FAA were to not retain the requirements of AD 2017-24-10 until the terminating action required by paragraph (l) of this AD is performed, that would allow the affected airplanes to continue flying beyond the repetitive inspection interval. If those repetitive eddy current inspections are not performed, an undetected crack could result in the inability of a principal structural element to sustain limit loads, which could adversely affect the structural integrity of the airplane. No change has been made to this final rule.

Request for an Additional AMOC

FedEx requested that paragraph (m)(4) of the proposed AD be updated to reflect the language in Notes (a) and (b) of Tables 1 and 2 of Boeing Alert Requirements Bulletin 757-53A0118 RB, dated October 22, 2021, which FedEx believes should allow additional AMOCs. FedEx observed that paragraph (m)(4) of the proposed AD states that AMOCs approved previously for AD 2017-24-10 are not approved as AMOCs for this AD. In expressing its disagreement with that statement, FedEx observed that those Notes state that if any existing repair is found and meets either one of the conditions stated in the Notes, the repair is still approved and meets the requirements for accomplishing the action specified in Boeing Alert Requirements Bulletin 757-53A0118 RB, dated October 22, 2021. FedEx asserts that the referenced notes are governed by paragraph (j) of the proposed AD, and paragraph (k) of the proposed AD does not provide any exceptions for the referenced notes. In conclusion, FedEx asserted that paragraph (m)(4) of the proposed AD is in conflict with Notes (a) and (b) of Tables 1 and 2 of Boeing Alert Requirements Bulletin 757-53A0118 RB, dated October 22, 2021. As a result, FedEx requests that paragraph (m)(4) of the final rule be updated to reflect the language in the referenced notes.

The FAA does not agree with the commenter. FedEx asserted that a repair that meets either one of the conditions stated in Notes (a) and (b) of Tables 1 and 2 of Boeing Alert Requirements Bulletin 757-53A0118 RB, dated October 22, 2021, is approved and meets the requirements for accomplishing the actions specified in that service information. FedEx further asserts that such a repair is therefore in conflict with paragraph (m)(4) of the proposed AD. These assertions are incorrect. For airplanes with repairs that meet either one of the conditions stated in Notes (a) and (b) of Tables 1 and 2 of Boeing Alert Requirements Bulletin 757-53A0118 RB, dated October 22, 2021, the inspections specified in that service information are still required, but at a different inspection threshold than the threshold for airplanes that do not have an approved repair installed in the inspection area. Therefore, Notes (a) and (b) of Tables 1 and 2 of Boeing Alert Requirements Bulletin 757-53A0118 RB, dated October 22, 2021, are not in conflict with paragraph (m)(4) of this AD. AMOCs previously approved for AD 2017-24-10 do not address the unsafe condition identified in this final rule (cracks initiating in the STA 1380 frame web), and therefore cannot be approved as AMOCs for this final rule. If the existing AMOCs were to be approved as AMOCs for this final rule, then the inspections specified in Boeing Alert Requirements Bulletin 757-53A0118 RB, dated October 22, 2021, would not be required on airplanes with a previously approved AMOC. If these inspections are not accomplished, cracks initiating in the frame web could grow undetected, which could result in the inability of a principal structural element to sustain limit loads, which could adversely affect the structural integrity of the airplane. No change has been made to this final rule.

Request for a New Exception To Omit Reinstallation of the Guide Track Fitting as a Required for Compliance Action

Delta requested that the FAA modify paragraph (k) of the proposed AD to include a new exception that omits Figure 6 from Boeing Alert Requirements Bulletin 757-53A0118 RB, dated October 22, 2021. Delta recognized that the proposed AD seeks to mitigate cracking at the fuselage STA 1380 frame inner chord by detecting and repairing such cracks as described in paragraph (e) of the proposed AD. However, Delta contends that reinstallation of the guide track fitting in accordance with Figure 6 of Boeing Alert Requirements Bulletin 757-53A0118 RB, dated October 22, 2021, does nothing to mitigate the unsafe condition and is a close access step. Open access steps in accordance with Boeing Alert Requirements Bulletin 757-53A0118 RB, dated October 22, 2021, including removal of the guide track fitting in Figure 2, and other close access steps in accordance with Part 2, are not contained in Boeing Alert Requirements Bulletin 757-53A0118 RB, dated October 22, 2021.

The FAA does not agree with the commenter. The root cause for the cracking in the STA 1380 frame inner chord and web under the roller guide track fitting is attributed to the out-of-plane bending stress induced from a mis-rigging condition of the No. 2 cargo door, which allows the roller pin on the lower cargo door to contact the roller guide track fitting. Figure 6 provides instructions on how to properly re-rig the roller guide track fitting and the No. 2 cargo door to prevent the contact between the roller pin and the roller guide track fitting, eliminating the out-of-plane bending loads on the STA 1380 frame. No change has been made to this final rule.

Conclusion

The FAA reviewed the relevant data, considered any comments received, and determined that air safety requires adopting this AD as proposed. Except for minor editorial changes, and any other changes described previously, this AD is adopted as proposed in the NPRM. None of the changes will increase the economic burden on any operator.

Related Service Information Under 1 CFR Part 51

The FAA reviewed Boeing Alert Requirements Bulletin 757-53A0118 RB, dated October 22, 2021. This service information specifies procedures for a general visual inspection or a maintenance records check of the STA 1380 frame for any repair, and repetitive surface high frequency eddy current (HFEC) inspections of the STA 1380 frame inner chord and frame web for any cracking, repetitive sub-surface low frequency eddy current (LFEC) inspections of the STA 1380 frame inner chord for any cracking, and applicable corrective actions. Corrective actions include repair.

This AD also requires Boeing Alert Service Bulletin 757-53A0101, dated November 8, 2016, which the Director of the Federal Register approved for incorporation by reference as of January 9, 2018 (82 FR 57343, December 5, 2017).

This service information is reasonably available because the interested parties have access to it through their normal course of business or by the means identified in ADDRESSES.

Costs of Compliance

The FAA estimates that this AD affect 477 airplanes of U.S. registry. The FAA estimates the following costs to comply with this AD:

Estimated Costs
Action | Labor cost | Parts cost | Cost per product | Cost on U.S. operators
Surface HFEC inspection (retained actions from AD 2017-24-10) | 5 work-hours × $85 per hour = $425 per inspection cycle | $0 | $425 per inspection cycle | $202,725 per inspection cycle.
Identify the material (retained actions from AD 2017-24-10) | Up to 2 work-hours × $85 per hour = $170 | 0 | Up to $170 | Up to $81,090.
General visual inspection (new proposed action) | 6 work-hours × $85 per hour = $510 | 0 | $510 | $243,270.
Surface frame inner chord HFEC inspection (new proposed action) | Up to 10 work-hours × $85 per hour = $850 per inspection cycle | 0 | Up to $850 per inspection cycle | Up to $405,450 per inspection cycle.
Sub-surface frame inner chord LFEC inspection (new proposed action) | Up to 6 work-hours × $85 per hour = $510 per inspection cycle | 0 | Up to $510 per inspection cycle | Up to $243,270 per inspection cycle.
Surface HFEC frame web inspection (new proposed action) | Up to 6 work-hours × $85 per hour = $510 per inspection cycle | 0 | Up to $510 per inspection cycle | Up to $243,270 per inspection cycle.

The FAA has received no definitive data on which to base the cost estimates for the on-condition repairs specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2017-24-10, Amendment 39-19114 (82 FR 57343, December 5, 2017); and

b. Adding the following new AD:

2022-13-04 The Boeing Company: Amendment 39-22090; Docket No. FAA-2021-1073; Project Identifier AD-2021-01252-T.

(a) Effective Date

This airworthiness directive (AD) is effective August 12, 2022.

(b) Affected ADs

This AD replaces AD 2017-24-10, Amendment 39-19114 (82 FR 57343, December 5, 2017) (AD 2017-24-10).

(c) Applicability

(1) This AD applies to all The Boeing Company Model 757-200, -200PF, -200CB, and -300 series airplanes, certificated in any category.

(2) Installation of Supplemental Type Certificate (STC) ST01518SE does not affect the ability to accomplish the actions required by this AD. Therefore, for airplanes on which STC ST01518SE is installed, a “change in product” alternative method of compliance (AMOC) approval request is not necessary to comply with the requirements of 14 CFR 39.17.

(d) Subject

Air Transport Association (ATA) of America Code 53, Fuselage.

(e) Unsafe Condition

This AD was prompted by reports of cracking found at the fuselage station (STA) 1380 frame inner chord and by reports of new crack findings outside of the AD 2017-24-10 inspection area, which the existing inspections will not detect. The FAA is issuing this AD to detect and correct such cracks, which could result in rapid decompression of the airplane and the inability to sustain loads required for continued safe flight and landing.

(f) Compliance

Comply with this AD within the compliance times specified, unless already done.

(g) Retained Inspection for Group 1 Airplanes, With No Changes

This paragraph restates the requirements of paragraph (g) of AD 2017-24-10, with no changes. For Group 1 airplanes as identified in Boeing Alert Service Bulletin 757-53A0101, dated November 8, 2016: At the applicable time specified in paragraph 1.E., “Compliance,” of Boeing Alert Service Bulletin 757-53A0101, dated November 8, 2016; except as specified in paragraph (i)(1) of this AD, do a surface high frequency eddy current (HFEC) inspection for any cracking of the fuselage STA 1380 frame inner chord, and do all applicable corrective actions, in accordance with the Accomplishment Instructions of Boeing Alert Service Bulletin 757-53A0101, dated November 8, 2016; except as specified in paragraph (i)(2) of this AD. Do all applicable corrective actions before further flight. Repeat the surface HFEC inspection, thereafter, at the times specified in paragraph 1.E., “Compliance,” of Boeing Alert Service Bulletin 757-53A0101, dated November 8, 2016.

(h) Retained Inspection for Group 2 Airplanes, With No Changes

This paragraph restates the requirements of paragraph (h) of AD 2017-24-10, with no changes. For Group 2 airplanes as identified in Boeing Alert Service Bulletin 757-53A0101, dated November 8, 2016: At the applicable time specified in paragraph 1.E., “Compliance,” of Boeing Alert Service Bulletin 757-53A0101, dated November 8, 2016, except as specified in paragraph (i)(1) of this AD, identify the material of the fuselage STA 1380 frame inner chord, in accordance with the Accomplishment Instructions of Boeing Alert Service Bulletin 757-53A0101, dated November 8, 2016.

(1) If the fuselage STA 1380 frame inner chord material 2024-T42 aluminum alloy is found during any identification required by paragraph (h) of this AD: No further action is required by this paragraph for that airplane.

(2) If the fuselage STA 1380 frame inner chord material 7075-T73 aluminum alloy is found during any identification required by the introductory text of paragraph (h) of this AD: Before further flight, do a surface HFEC inspection for any cracking of the fuselage STA 1380 frame inner chord, and do all applicable corrective actions, in accordance with the Accomplishment Instructions of Boeing Alert Service Bulletin 757-53A0101, dated November 8, 2016; except as specified in paragraph (i)(2) of this AD. Do all applicable corrective actions before further flight. Repeat the surface HFEC inspection thereafter at the times specified in paragraph 1.E., “Compliance,” of Boeing Alert Service Bulletin 757-53A0101, dated November 8, 2016.

(i) Retained Exceptions to the Service Information, With No Changes

This paragraph restates the requirements of paragraph (i) of AD 2017-24-10, with no changes.

(1) Where Boeing Alert Service Bulletin 757-53A0101, dated November 8, 2016, specifies a compliance time “after the original issue date of this service bulletin,” this AD requires compliance within the specified compliance time after January 9, 2018 (the effective date of AD 2017-24-10).

(2) Where Boeing Alert Service Bulletin 757-53A0101, dated November 8, 2016, specifies to contact Boeing for appropriate action and identifies that action as “RC” (Required for Compliance): Before further flight, repair the crack using a method approved in accordance with the procedures specified in paragraph (m) of this AD.

(j) New Required Actions

Except as specified by paragraph (k) of this AD: At the applicable times specified in the “Compliance” paragraph of Boeing Alert Requirements Bulletin 757-53A0118 RB, dated October 22, 2021, do all applicable actions identified in, and in accordance with, the Accomplishment Instructions of Boeing Alert Requirements Bulletin 757-53A0118 RB, dated October 22, 2021.

Note 1 to paragraph (j): Guidance for accomplishing the actions required by this AD can be found in Boeing Alert Service Bulletin 757-53A0118, dated October 22, 2021, which is referred to in Boeing Alert Requirements Bulletin 757-53A0118 RB, dated October 22, 2021.

(k) New Exceptions to Service Information Specifications

(1) Where the Compliance Time column of the tables in the “Compliance” paragraph of Boeing Alert Requirements Bulletin 757-53A0118 RB, dated October 22, 2021, uses the phrase “the original issue date of the Requirements Bulletin 757-53A0118 RB,” this AD requires using “the effective date of this AD.”

(2) Where Boeing Alert Requirements Bulletin 757-53A0118 RB, dated October 22, 2021, specifies contacting Boeing for repair instructions or for alternative inspections: This AD requires doing the repair, or doing the alternative inspections and applicable on-condition actions using a method approved in accordance with the procedures specified in paragraph (m) of this AD.

(3) Where Boeing Alert Requirements Bulletin 757-53A0118 RB, dated October 22, 2021, states that 757-200 SRM 53-00-07 Repair 4 is for “757-200 Special Freighter STC ST00916WI-D only,” for this AD, 757-200 SRM 53-00-07 Repair 4 is for “757-200 Special Freighter STC ST00916WI-D and VT Mobile Aerospace Engineering (VT MAE) Supplemental Type Certificate (STC) ST03562AT only.”

(l) Terminating Action for Certain Inspections

Accomplishment of the applicable initial inspections and corrective actions specified in the Accomplishment Instructions of Boeing Alert Requirements Bulletin 757-53A0118 RB, dated October 22, 2021, terminates the inspections required by paragraphs (g) and (h) of this AD.

(m) Alternative Methods of Compliance (AMOCs)

(1) The Manager, Los Angeles ACO Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (n) of this AD. Information may be emailed to: 9-ANM-LAACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, Los Angeles ACO Branch, FAA, to make those findings. To be approved, the repair method, modification deviation, or alteration deviation must meet the certification basis of the airplane, and the approval must specifically refer to this AD.

(4) AMOCs approved previously for AD 2017-24-10 are not approved as AMOCs with this AD.

(5) Except as specified by paragraph (i) of this AD: For service information that contains steps that are labeled as Required for Compliance (RC), the provisions of paragraphs (m)(5)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(n) Related Information

For more information about this AD, contact Peter Jarzomb, Aerospace Engineer, Airframe Section, FAA, Los Angeles ACO Branch, 3960 Paramount Boulevard, Lakewood, CA 90712-4137; phone: 562-627-5234; email: peter.jarzomb@faa.gov.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on August 12, 2022.

(i) Boeing Alert Requirements Bulletin 757-53A0118 RB, dated October 22, 2021.

(ii) [Reserved]

(4) The following service information was approved for IBR on January 9, 2018 (82 FR 57343, December 5, 2017).

(i) Boeing Alert Service Bulletin 757-53A0101, dated November 8, 2016.

(ii) [Reserved]

(5) For service information identified in this AD, contact Boeing Commercial Airplanes, Attention: Contractual & Data Services (C&DS), 2600 Westminster Blvd., MC 110-SK57, Seal Beach, CA 90740-5600; telephone 562-797-1717; internet https://www.myboeingfleet.com.

(6) You may view this service information at the FAA, Airworthiness Products Section, Operational Safety Branch, 2200 South 216th St., Des Moines, WA. For information on the availability of this material at the FAA, call 206-231-3195.

(7) You may view this service information that is incorporated by reference at the National Archives and Records Administration (NARA). For information on the availability of this material at NARA, email fr.inspection@nara.gov, or go to: https://www.archives.gov/federal-register/cfr/ibr-locations.html.

Issued on June 13, 2022.
Christina Underwood,
Acting Director, Compliance & Airworthiness Division, Aircraft Certification Service.

[FR Doc. 2022-14490 Filed 7-7-22; 8:45 am]

BILLING CODE 4910-13-P